GENERAL SERVICES ADMINISTRATION

[OMB Control No. 3090-0290; Docket No. 2019-0001; Sequence No. 15]

Submission for OMB Review; System for Award Management Registration Requirements for Financial Assistance Recipients

AGENCY: Office of Systems Management, General Services Administration (GSA).

ACTION: Notice.

SUMMARY: Under the provisions of the Paperwork Reduction Act of 1995, the Regulatory Secretariat Division has submitted to the Office of Management and Budget (OMB) a request to review and approve a renewal of a previously approved information collection requirement regarding the pre-award registration requirements for Prime Grant Recipients. The updated information collection title is based on the Office of Management and Budget's (OMB) proposed expansion of SAM registration requirements to include all entities that receive financial assistance.

DATES: Submit comments on or before September 24, 2020.

ADDRESSES: Written comments and recommendations for this information collection should be sent within 30 days of publication of this notice to www.reginfo.gov/public/do/PRAMain. Find this particular information collection by selecting “Currently under Review—Open for Public Comments” or by using the search function.

FOR FURTHER INFORMATION CONTACT: Ms. Nancy Goode, Program Manager, IAE Outreach and Stakeholder Engagement Division, at telephone number 703-605-2175; or via email at nancy.goode@gsa.gov.

SUPPLEMENTARY INFORMATION:

A. Purpose

This information collection requires information necessary for prime applicants and recipients, excepting individuals, of Federal financial assistance to register in the System for Award Management (SAM) and maintain an active SAM registration with current information at all times during which they have an active Federal award or an application or plan under consideration by an agency pursuant to 2CFR Subtitle A, Chapter I, and Part 25 (75 FR 5672). This facilitates prime awardee reporting of sub-award and executive compensation data pursuant to the Federal Funding Accountability and Transparency Act (Pub. L. 109-282, as amended by section 6202(a) of Pub. L. 110-252). This information collection requires that all prime financial assistance awardees, subject to reporting under the Transparency Act register and maintain their registration in SAM.

This information collection is being amended to meet a statutory requirement of the National Defense Authorization Act (NDAA) of FY 2013. The NDAA of 2013 requires that the Federal Awardee Performance and Integrity Information System (FAPIIS)(currently located in SAM) include information on a non-Federal entity's parent, subsidiary, or successor entities. Applicants will need to provide information in SAM on their immediate and highest level owner as well as predecessors that have been awarded a Federal contract, grant, or cooperative agreement within the last three years. Additionally, the information collection is being amended to increase transparency regarding Federal spending and to support implementation of the Digital Accountability and Transparency Act of 2014 (DATA ACT).

OMB proposes to expand the requirement to register in SAM beyond grants, cooperative agreements, and contracts, to entities that receive financial assistance such as loans, insurance, and direct appropriations. This information collection requirement (published in the Federal Register at 85 FR 49506 on August 13, 2020) is included in OMB's proposed revision to guidance in 2 CFR Subtitle A, Chapter I, and Parts 25, 170, and 200.

B. Annual Reporting Burden

Respondents: 172,084.

Responses per Respondent: 1.

Total Annual Responses: 172,084.

Hours per Response: 2.5.

Total Burden Hours: 430,210.

C. Public Comments

A 60-day notice published in the Federal Register at 85 FR 3690 on January 22, 2020. No comments were received.

Obtaining Copies of Proposals: Requesters may obtain a copy of the information collection documents from the General Services Administration, Regulatory Secretariat Division (MVCB) at GSARegSec@gsa.gov. Please cite OMB Control No. 3090-0290, System for Award Management Registration Requirements for Financial Assistance Recipients, in all correspondence.

Beth Anne Killoran,
Deputy Chief Information Officer.

[FR Doc. 2020-18618 Filed 8-24-20; 8:45 am]

BILLING CODE 6820-WY-P